DEPARTMENT OF COMMERCE

International Trade Administration

[A-351-826]

Small Diameter Seamless Carbon and Alloy Steel Standard, Line and Pressure Pipe from Brazil: Notice of Extension of Time Limit for Preliminary Results in Antidumping Duty Administrative Review

AGENCY: Import Administration, International Trade Administration, Department of Commerce.

EFFECTIVE DATE: April 3, 2006.

FOR FURTHER INFORMATION CONTACT: Helen Kramer or David Kurt Kraus, AD/CVD Operations, Office 7, Import Administration, International Trade Administration, U.S. Department of Commerce, 14th Street and Constitution Avenue, NW, Washington, DC 20230; telephone: (202) 482-0405 or (202) 482-7871, respectively.

SUPPLEMENTARY INFORMATION:

Background

On August 1, 2005, the Department published a notice of opportunity to request an administrative review of the antidumping order on seamless line and pressure pipe from Brazil for the period of review (“POR”) August 1, 2004, through July 31, 2005. See Antidumping or Countervailing Duty Order, Finding, or Suspended Investigation; Opportunity to Request Administrative Review, 70 FR 44085 (August 1, 2005). On August 31, 2005, United States Steel Corporation (“US Steel”), the petitioner, requested that we conduct an administrative review of V&M do Brazil S.A. (“VMB”) sales to the United States during the POR. On September 28, 2005, the Department published in the Federal Register a notice of initiation of this antidumping duty administrative review covering the POR August 1, 2004, through July 31, 2005. See Initiation of Antidumping and Countervailing Duty Administrative Reviews and Request for Revocation in Part, 70 FR 56631 (September 28, 2005). The preliminary results for this review are currently due no later than May 3, 2006.

Extension of Time Limits for Preliminary Results

Pursuant to section 751(a)(3)(A) of the Tariff Act of 1930, as amended (“the Act”), and 19 CFR 351.213(h)(2), the Department may extend the deadline for completion of the preliminary results of a review if it determines that it is not practicable to complete the preliminary results within 245 days after the last day of the anniversary month of the date of publication of the order for which the administrative review was requested.

The Department has determined it is not practicable to complete this review within the originally anticipated time limit, in accordance with section 751(a)(3)(A) of the Act and 19 CFR 351.213(h)(2), because the Department requires additional time to issue a second supplemental questionnaire and resolve cost issues, and because of its workload. Therefore, the Department is extending the time limit for the preliminary results by 30 days, to not later than June 2, 2006. The deadline for the final results of this review will continue to be 120 days after the publication of the preliminary results.

This extension is published in accordance with section 751(a)(3)(A) of the Act and 19 CFR 351.213(h)(2).

Dated: March 23, 2006.
Stephen J. Claeys,
Deputy Assistant Secretary for Import Administration.

[FR Doc. E6-4745 Filed 3-31-06; 8:45 am]

BILLING CODE 3510-DS-S